DEPARTMENT OF LABOR

Employment and Training Administration

[TA-W-59,789]

Allied Air Enterprises, A Subsidiary of Lennox International, Inc., Bellevue, Ohio; Dismissal of Application for Reconsideration

Pursuant to 29 CFR 90.18(C) an application for administrative reconsideration was filed with the Director of the Division of Trade Adjustment Assistance for workers at Allied Air Enterprises, A Subsidiary of Lennox International, Inc., Bellevue, Ohio. The application did not contain new information supporting a conclusion that the determination was erroneous, and also did not provide a justification for reconsideration of the determination that was based on either mistaken facts or a misinterpretation of facts or of the law. Therefore, dismissal of the application was issued.

TA-W-59,789; Allied Air Enterprises, A Subsidiary of Lennox International, Inc., Bellevue, Ohio (November 15, 2006).

Signed at Washington, DC this 21st day of November 2006.
Linda G. Poole,
Certifying Officer, Division of Trade Adjustment Assistance.

[FR Doc. E6-20057 Filed 11-27-06; 8:45 am]

BILLING CODE 4510-30-P